DEPARTMENT OF DEFENSE

Office of the Secretary; Federal Advisory Committee; Uniform Formulary Beneficiary Advisory Panel; Charter Renewal

AGENCY: Department of Defense (DOD).

ACTION: Renewal of Federal Advisory Committee.

SUMMARY: Under the provisions of 10 U.S.C. 1074g(c), the Federal Advisory Committee Act of 1972, (5 U.S.C. Appendix), the Government in the Sunshine Act of 1976 (5 U.S.C. 552b), and 41 CFR 102-3.50, the Department of Defense gives notice that it is renewing the charter for the Uniform Formulary Beneficiary Advisory Panel (hereafter referred to as the Panel).

FOR FURTHER INFORMATION CONTACT: Jim Freeman, Deputy Committee Management Officer for the Department of Defense, 703-601-6128.

SUPPLEMENTARY INFORMATION: The Panel is a non-discretionary Federal advisory committee established to provide the Secretary of Defense, through the Under Secretary of Defense (Personnel and Readiness), the Assistant Secretary of Defense (Health Affairs) and the Director TRICARE Management Activity, independent advice and recommendations on the development of the uniform formulary. The Secretary of Defense shall consider the comments of the Panel before implementing the uniform formulary or implementing changes to the uniform formulary.

The Under Secretary of Defense (Personnel and Readiness) or designated representative may act upon the Panel's advice and recommendations.

The Panel, pursuant to 10 U.S.C. 1074g(c)(2), shall be comprised of no more than fifteen members. The Panel membership shall include:

a. Non-governmental organizations and associations that represent the views and interests of a large number of eligible covered beneficiaries;

b. Contractors responsible for the TRICARE retail pharmacy program; enrolled in such

c. Contractors responsible for the national mail-order pharmacy program; and

d. TRICARE network providers.

Panel members, who are not full-time or permanent part-time Federal officers or employees, shall be appointed as experts and consultants under the authority of 5 U.S.C. 3109 and serve as special government employees. All panel members, including those appointed as experts and consultants under section 3109, shall be appointed by the Secretary of Defense and their appointments shall be renewed on an annual basis.

The Panel members shall select the Panels Chairperson from the total membership.

With the exception of travel and per diem for official travel, Panel and subcommittee members shall serve with compensation.

With DOD approval, the Panel is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Panel, and shall report all their recommendations and advice to the Panel for full deliberation and discussion. Subcommittees or workgroups have no authority to make decisions on behalf of the chartered Panel nor can they report directly to the Department of Defense or any Federal officers or employees who are not Panel members.

Subcommittee members, who are not Panel members, shall be appointed in the same manner as the Panel members. Subcommittee members, who are not full-time or permanent part-time government employees, shall be appointed by the Secretary of Defense according to governing DOD policies and procedures. Such individuals shall be appointed as experts and consultants under the authority of 5 U.S.C. 3109 and shall serve as special government employees, whose appointments must be renewed annually.

The Panel shall meet at the call of the Panel's Designated Federal Officer, in consultation with the Panel's chairperson. The estimated number of Panel meetings is four per year.

The Designated Federal Officer, pursuant to DOD policy, shall be a full-time or permanent part-time DOD employee, and shall be appointed in accordance with established DOD policies and procedures. In addition, the Designated Federal Officer is required to be in attendance at all Panel and subcommittee meetings, however, in the absence of the Designated Federal Officer, the Alternate Designated Federal Officer shall attend the meeting.

Pursuant to 41 CFR 102-3.105(j) and 102-3.140, the public or interested organizations may submit written statements to the Uniform Formulary Beneficiary Advisory Panel membership about the Panel's mission and functions. Written statements may be submitted at any time or in response to the stated agenda of planned meeting of the Uniform Formulary Beneficiary Advisory Panel.

All written statements shall be submitted to the Designated Federal Officer for the Uniform Formulary Beneficiary Advisory Panel, and this individual will ensure that the written statements are provided to the membership for their consideration. Contact information for the Uniform Formulary Beneficiary Advisory Panel Designated Federal Officer can be obtained from the GSA's FACA Database— https://www.fido.gov/facadatabase/public.asp.

The Designated Federal Officer, pursuant to 41 CFR 102-3.150, will announce planned meetings of the Uniform Formulary Beneficiary Advisory Panel. The Designated Federal Officer, at that time, may provide additional guidance on the submission of written statements that are in response to the stated agenda for the planned meeting in question.

Dated: July 21, 2010.
Mitchell S. Bryman,
Alternate OSD Federal Register Liaison Officer, Department of Defense.

[FR Doc. 2010-18174 Filed 7-23-10; 8:45 am]

BILLING CODE 5001-06-P